DEPARTMENT OF TRANSPORTATION

Federal Aviation Administration

14 CFR Part 39

[Docket No. 2003-NM-154-AD; Amendment 39-13458; AD 2004-03-14]

RIN 2120-AA64

Airworthiness Directives; Bombardier Model DHC-8-102, -103, -106, -201, -202, -301, -311, and -315 Series Airplanes

AGENCY: Federal Aviation Administration, DOT.

ACTION: Final rule.

SUMMARY: This amendment adopts a new airworthiness directive (AD), applicable to certain Bombardier Model DHC-8-102, -103, -106, -201, -202, -301, -311, and -315 series airplanes, that requires repetitive inspections for discrepancies of certain rear spar fittings between the flex shaft of the flap secondary drive and the wing-to-fuselage structure, and corrective action if necessary. This action also provides for an optional modification of the flex shaft installation, which terminates the repetitive inspections. This action is necessary to find and fix damage and prevent subsequent failure of the rear spar fittings, which could result in loss of the wing. This action is intended to address the identified unsafe condition.

DATES: Effective March 16, 2004.

The incorporation by reference of a certain publication listed in the regulations is approved by the Director of the Federal Register as of March 16, 2004.

ADDRESSES: The service information referenced in this AD may be obtained from Bombardier, Inc., Bombardier Regional Aircraft Division, 123 Garratt Boulevard, Downsview, Ontario M3K 1Y5, Canada. This information may be examined at the Federal Aviation Administration (FAA), Transport Airplane Directorate, Rules Docket, 1601 Lind Avenue, SW., Renton, Washington; or at the FAA, New York Aircraft Certification Office, 1600 Stewart Avenue, Westbury, New York; or at the Office of the Federal Register, 800 North Capitol Street, NW., suite 700, Washington, DC.

FOR FURTHER INFORMATION CONTACT: Jon Hjelm, Aerospace Engineer, Airframe and Propulsion Branch, ANE-171, FAA, New York Aircraft Certification Office, 1600 Stewart Avenue, Westbury, New York 11581; telephone (516) 228-7300; fax (516) 794-5531.

SUPPLEMENTARY INFORMATION: A proposal to amend part 39 of the Federal Aviation Regulations (14 CFR part 39) to include an airworthiness directive (AD) that is applicable to certain Bombardier Model DHC-8-102, ^103, ^106, ^201, ^202, ^301, ^311, and ^315 series airplanes was published in the Federal Register on November 28, 2003 (68 FR 66765). That action proposed to require repetitive inspections for discrepancies of certain rear spar fittings between the flex shaft of the flap secondary drive and the wing-to-fuselage structure, and corrective action if necessary. That action also provides for an optional modification of the flex shaft installation, which would terminate the repetitive inspections.

Comments

Interested persons have been afforded an opportunity to participate in the making of this amendment. No comments were submitted in response to the proposal or the FAA's determination of the cost to the public.

Conclusion

The FAA has determined that air safety and the public interest require the adoption of the rule as proposed.

Cost Impact

The FAA estimates that 218 airplanes of U.S. registry will be affected by this AD.

It will take about 16 work hours per rear spar fitting (two fittings per airplane) to accomplish the inspection, at an average labor rate of $65 per work hour. Based on these figures, the cost impact of the inspection required by this AD on U.S. operators is estimated to be $453,440, or $2,080 per airplane, per inspection cycle.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

The optional terminating modification, if done, will take about 16 work hours, at an average labor rate of $65 per work hour. Required parts will cost about $365 per airplane. Based on these figures, we estimate the cost of the optional terminating modification to be $1,405 per airplane.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-03-14 Bombardier, Inc. (Formerly de Havilland, Inc.): Amendment 39-13458. Docket 2003-NM-154-AD.

Applicability: Model DHC-8-102, ^103, ^106, ^201, ^202, ^301, ^311, and ^315 series airplanes; certificated in any category; as listed in Bombardier Service Bulletin 8-27-83, Revision “A”, dated February 8, 2002.

Compliance: Required as indicated, unless accomplished previously.

To find and fix damage and prevent subsequent failure of the rear spar fittings between the flex shaft of the flap secondary drive and the wing-to-fuselage structure, which could result in loss of the wing, accomplish the following:

Repetitive Inspections/Corrective Action

(a) For airplanes with rear spar fittings having part number (P/N) 85320053, 85322060, or 85334180: Within 12 months after the effective date of this AD; do a detailed inspection for discrepancies (chafing, wear damage, cracking) of the rear spar fittings located between the flex shaft of the flap secondary drive and the wing-to-fuselage structure. Do the inspection as defined in Parts III.A., III.B., and III.D. of the Accomplishment Instructions of Bombardier Service Bulletin 8-27-83, Revision “A”, dated February 8, 2002; except where the service bulletin specifies to report inspection findings, this AD does not require such reporting. Do the inspection per the service bulletin, and repeat the inspection thereafter at the applicable time specified in Part I.D. “Compliance” of the service bulletin. Any applicable corrective action (high frequency eddy current inspection for cracking, blending out wear damage, replacement of rear spar fittings) must be done at the applicable time specified in Part I.D. “Compliance” of the service bulletin.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Optional Terminating Modification

(b) Modification of the flex shaft of the flap secondary drive per Part III.C. of the Accomplishment Instructions of Bombardier Service Bulletin 8-27-83, Revision “A”, dated February 8, 2002, terminates the repetitive inspections required by paragraph (a) of this AD.

Actions Done per Previous Issue of Service Bulletins

(c) Accomplishment of the inspections or the modification before the effective date of this AD in accordance with Bombardier Service Bulletin 8-27-83, dated October 19, 2001, is considered acceptable for compliance with the applicable actions specified in this AD.

Alternative Methods of Compliance

(d) In accordance with 14 CFR 39.19, the Manager, New York Aircraft Certification Office, FAA, is authorized to approve alternative methods of compliance for this AD.

Incorporation by Reference

(e) The actions shall be done in accordance with Bombardier Service Bulletin 8-27-83, Revision “A”, dated February 8, 2002. This incorporation by reference was approved by the Director of the Federal Register in accordance with 5 U.S.C. 552(a) and 1 CFR part 51. Copies may be obtained from Bombardier, Inc., Bombardier Regional Aircraft Division, 123 Garratt Boulevard, Downsview, Ontario M3K 1Y5, Canada. Copies may be inspected at the FAA, Transport Airplane Directorate, 1601 Lind Avenue, SW., Renton, Washington; or at the FAA, New York Aircraft Certification Office, 1600 Stewart Avenue, Westbury, New York; or at the Office of the Federal Register, 800 North Capitol Street, NW., suite 700, Washington, DC.

Note 2: The subject of this AD is addressed in Canadian airworthiness directive CF-2001-42, dated November 23, 2001.

Effective Date

(f) This amendment becomes effective on March 16, 2004.

Issued in Renton, Washington, on January 29, 2004.
Kalene C. Yanamura,
Acting Manager, Transport Airplane Directorate, Aircraft Certification Service.

[FR Doc. 04-2583 Filed 2-9-04; 8:45 am]

BILLING CODE 4910-13-U